DEPARTMENT OF COMMERCE

International Trade Administration

[A-570-904]

Fourth Administrative Review of Certain Activated Carbon From the People's Republic of China: Extension of Time Limit for the Preliminary Results

AGENCY: Import Administration, International Trade Administration, Department of Commerce.

DATES: Effective Date: September 30, 2011.

FOR FURTHER INFORMATION CONTACT: Robert Palmer or Josh Startup, AD/CVD Operations, Office 9, Import Administration, International Trade Administration, U.S. Department of Commerce, 14th Street and Constitution Avenue, NW., Washington DC 20230; telephone, (202) 482-9068 or (202) 482-5260, respectively.

Background

On May 27, 2011, the Department of Commerce (“Department”) published in the Federal Register a notice of initiation of an administrative review of certain activated carbon from the People's Republic of China (“PRC”), covering the period April 1, 2010, through March 31, 2011. See Initiation of Antidumping and Countervailing Duty Administrative Reviews, 76 FR 30912, 30913 (May 27, 2011). On July 11, 2011, after receiving U.S. Customs and Border Protection (“CBP”) data, the Department selected the mandatory respondents and issued its antidumping questionnaire. The preliminary results of this administrative review are currently due on December 31, 2011.

Extension of Time Limits for the Preliminary Results

The Department determines that completion of the preliminary results of this review within the statutory time period is not practicable. The Department requires more time to gather and analyze surrogate country and value information, review questionnaire responses, and issue supplemental questionnaires. Therefore, in accordance with section 751(a)(3)(A) of the Tariff Act of 1930, as amended (“Act”), we are extending the time period for issuing the preliminary results of review by 120 days until April 29, 2012.¹ The final results continue to be due 120 days after the publication of the preliminary results.

¹ April 29, 2012, is a Sunday. Department practice dictates that where a deadline falls on a weekend or federal holiday, the appropriate deadline is the next business day. See Notice of Clarification: Application of “Next Business Day” Rule for Administrative Determination Deadlines Pursuant to the Tariff Act of 1930, As Amended, 70 FR 24533, 24533 (May 10, 2005).

This notice is published pursuant to section 751(a)(3)(A) of the Act and 19 CFR 351.213(h)(2).

Dated: September 26, 2011.
Christian Marsh,
Deputy Assistant Secretary for Antidumping and Countervailing Duty Operations.

[FR Doc. 2011-25312 Filed 9-29-11; 8:45 am]

BILLING CODE 3510-DS-P